DEPARTMENT OF ENERGY

Federal Energy Regulatory Commission

Notice of Application Tendered for Filing With the Commission and Soliciting Additional Study Requests

December 12, 2005.

Take notice that the following hydroelectric application has been filed with the Commission and is available for public inspection.

a. Type of Application: Minor License.

b. Project No.: 12599-002.¹

¹ The Mill Coulee Drops Project No. 12599 would be located at the sites of the Mill Coulee Lower Project No. 12536 and the Mill Coulee Upper Project No. 12537, for which the applicant holds preliminary permits.

c. Date filed: November 28, 2005.

d. Applicant: Wade Jacobsen.

e. Name of Project: Mill Coulee Drops Hydroelectric Project.

f. Location: On the Mill Coulee Canal, in Cascade County, Montana, about 4 miles west of Fairfield, Montana. The project would occupy in part on lands of the United States administered by the Bureau of Reclamation.

g. Filed Pursuant to: Federal Power Act 16 U.S.C. 791(a) through 825(r).

h. Applicant Contact: Ted Sorenson, Sorenson Engineering, 5203 South 11th East, Idaho Falls, ID 83404, (208) 522-8069.

i. FERC Contact: Dianne Rodman, (202) 502-6077, Dianne.rodman@ferc.gov.

j. Cooperating agencies: We are asking Federal, state, local, and tribal agencies with jurisdiction and/or special expertise with respect to environmental issues to cooperate with us in the preparation of the environmental document. Agencies who would like to request cooperating status should follow the instructions for filing comments described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 27, 2006.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “e-Filing” link.

m. The application is not ready for environmental analysis at this time.

n. The proposed project would be built at the Mill Coulee Canal's Upper and Lower Mill Coulee drop structures, which are reinforced concrete structures 290 and 190 feet long, respectively. The total drop for the two structures is 101.6 feet. The applicant proposes to construct: (1) A check structure, consisting of a spillway gate panel anchored to a ballast concrete structure spanning the full width of the canal floor between new concrete abutment walls, upstream from the concrete transition of the Upper Mill Coulee chute drop; (2) an intake structure to divert flows from the left side of the canal; (3) a 48-inch-diameter, 1,400-feet-long pre-stressed concrete, tape-coated steel, or polyethylene penstock that would be completely buried; (4) a powerhouse containing one horizontal Francis turbine and one generator with a rated output of 1.05 MW; (5) a draft tube and 2,650-feet-long tailrace discharging flows into the canal below the Lower Mill Coulee drop structure; (6) a switchyard immediately adjacent to the powerhouse; and (7) a 0.7-mile-long, 69-kV transmission line extending from the switchyard to interconnect with an existing Sun River Electric Cooperative transmission line. The project would use flows as they are provided in accordance with the needs of the Greenfield Irrigation District, which operates the canal. The project would not impound water and would be operated strictly as a run-of-river plant. Average annual generation would be 2,430,000 kilowatt-hours.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Montana State Historic Preservation Officer (SHPO), as required by § 106, National Historic Preservation Act, and the regulations of the Advisory Council on Historic Preservation, 36, CFR, at § 800.4.

q. Procedural schedule: We are currently reviewing the application for adequacy. This schedule allows 30 days for the correction of any deficiencies and the submittal of any additional information needed. If deficiencies and additional information needs require more time, the schedule will be revised accordingly.

Issue Deficiency Letter, December 2005.

Issue Acceptance Letter, January 2006.

Issue Scoping Document 1 for comments, January 2006.

Notice of application is ready for environmental analysis, February 2006.

Notice of the availability of the EA, June 2006.

Ready for Commission's decision on the application, July 2006.

Magalie R. Salas,
Secretary.

[FR Doc. E5-7430 Filed 12-15-05; 8:45 am]

BILLING CODE 6717-01-P